DEPARTMENT OF ENERGY

Office of Energy Efficiency and Renewable Energy

Proposed Agency Information Collection

AGENCY: Office of Energy Efficiency and Renewable Energy, Department of Energy.

ACTION: Notice and Request for Comments.

SUMMARY: The Department of Energy (DOE) has submitted to the Office of Management and Budget (OMB) for clearance a proposal for collection of information under the provisions of the Paperwork Reduction Act of 1995. The proposed collection will support the Weatherization Assistance Program Evaluation for the American Recovery and Reinvestment Act (ARRA) Period covering Program Years 2009, 2010, and 2011. A 60-day notice and request for comments was published in the Federal Register on March 11, 2011, 76FR 13398. No comments were received. This subsequent 30-day notice allows public comment on the final version of this information collection request. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology. Please note that in the final version the estimated burden has increased, primarily due to the collection of utility bill data on multiple instances instead of once as previously planned.

DATES: Comments regarding this proposed information collection must be received on or before July 18, 2011. If you anticipate difficulty in submitting comments within that period, contact the person listed in ADDRESSES as soon as possible.

ADDRESSES: Written comments may be sent to DOE Desk Officer, Office of Information and Regulatory Affairs, Office of Management and Budget, New Executive Office Building, Room 10102, 725 17th Street, NW., Washington, DC 20503; and Bruce Tonn, Environmental Sciences Division, Oak Ridge National Laboratory, One Bethel Valley Road, P.O. Box 2008, MS-6038, Oak Ridge, TN 37831-6038, Fax #: (865) 576-8646, tonnbe@ornl.gov.

FOR FURTHER INFORMATION CONTACT: Requests for additional information or copies of the information collection instrument and instructions should be directed to Bruce Tonn, Environmental Sciences Division, Oak Ridge National Laboratory, One Bethel Valley Road, P.O. Box 2008, MS-6038, Oak Ridge, TN 37831-6038, Fax #: (865) 576-8646, tonnbe@ornl.gov.

The plan for this evaluation can be found at http://weatherization.ornl.gov/evaluation_period.shtml. The surveys and data forms that comprise this information request can also be found at that Web page.

SUPPLEMENTARY INFORMATION: This package contains: (1) OMB No.: 1910-NEW; (2) Package Title: The Weatherization Assistance Program ARRA-Period Evaluation; (3) Type of Review: Regular; (4) Purpose: This collection of information is necessary for a complete evaluation of the program that will weatherize approximately 600,000 low-income homes in Program Years 2009, 2010 and 2011; (5) Estimated Number of Total Respondents: 6,604. Information will be collected from seventy-four grantees (fifty states, five U.S. territories, Washington DC, two Native American tribes, and sixteen Weatherization Innovation grantees); thirty-four weatherization training centers; approximately 1,000 local weatherization agencies; approximately 1,200 utilities; approximately 1,240 occupants/clients of weatherization; and approximately 3,056 individuals working in the weatherization field; (6) Estimated Number of Total Responses: 9,012; (7) Estimated Number of Total Burden Hours: The estimated burden is 83,527 hours; (8) Estimated Reporting and Recordkeeping Cost Burden: There is no reporting or recordkeeping cost burden associated with this request.

Authority: Section 6861 of title 42 of the United States Code and 10 CFR 440.25 authorize the collection of this information.

Issued in Washington, DC, on June 9, 2011.
Henry Kelly,
Acting Assistant Secretary, Energy Efficiency and Renewable Energy.

[FR Doc. 2011-14997 Filed 6-15-11; 8:45 am]

BILLING CODE 6450-01-P